DEPARTMENT OF THE INTERIOR

Fish and Wildlife Service

Receipt of Applications for Permit

AGENCY: Fish and Wildlife Service, Interior.

ACTION: Notice of Receipt of Applications for Permit.

SUMMARY: The public is invited to comment on the following applications to conduct certain activities with endangered species and/or marine mammals.

DATES: Written data, comments or requests must be received by June 12, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

Applicant: New York State Museum, Albany, NY, PRT-059244.

The applicant requests a permit to import biological samples from ocelot (Leopardus pardalis), margay (Leopardus wiedii), jaguar (Panthera onca), and Costa Rican puma (Puma concolor costaricensis) collected in the wild in central Panama, for scientific research. This notification covers activities to be conducted by the applicant over a five year period.

Applicant: Albuquerque Biological Park, Albuquerque, NM, PRT-067101.

The applicant requests a permit to import two male captive-born Asian elephants (Elephas maximus) from African Lion Safari, Ontario, Canada for the purpose of enhancement of the species through captive propagation and conservation education.

Endangered Marine Mammals and Marine Mammals

The public is invited to comment on the following application(s) for a permit to conduct certain activities with endangered marine mammals and/or marine mammals. The application(s) was/were submitted to satisfy requirements of the Endangered Species Act of 1973, as amended (16 U.S.C. 1531, et seq.) and/or the Marine Mammal Protection Act of 1972, as amended (16 U.S.C. 1361 et seq.), and the regulations governing endangered species (50 CFR part 17) and/or marine mammals (50 CFR part 18). Written data, comments, or requests for copies of the complete applications or requests for a public hearing on these applications should be submitted to the Director (address above). Anyone requesting a hearing should give specific reasons why a hearing would be appropriate. The holding of such a hearing is at the discretion of the Director.

Applicant: Paul L. Van Dam, Hamilton, MI, PRT-070875.

The applicant requests a permit to import a polar bear (Ursus maritimus) sport hunted from the Lancaster Sound polar bear population in Canada for personal use.

Applicant: Stanley D. Jager, Byron Center, MI, PRT-070876.

The applicant requests a permit to import a polar bear (Ursus maritimus) sport hunted from the Lancaster Sound polar bear population in Canada for personal use.

Applicant: Wayne F. Manis, Hayden Lake, ID, PRT-070952.

The applicant requests a permit to import a polar bear (Ursus maritimus) sport hunted from the Southern Beaufort Sea polar bear population in Canada for personal use.

Applicant: John J. Michelotti, Billings, MT, PRT-070954.

The applicant requests a permit to import a polar bear (Ursus maritimus) sport hunted from the Lancaster Sound polar bear population in Canada for personal use.

The U.S. Fish and Wildlife Service has information collection approval from OMB through March 31, 2004, OMB Control Number 1018-0093. Federal Agencies may not conduct or sponsor and a person is not required to respond to a collection of information unless it displays a current valid OMB control number.

Dated: April 25, 2003.
Michael S. Moore,
Senior Permit Biologist, Branch of Permits, Division of Management Authority.

[FR Doc. 03-11831 Filed 5-12-03; 8:45 am]

BILLING CODE 4310-55-P